SECURITIES AND EXCHANGE COMMISSION

[Release No. IC-30899]

Notice of Applications for Deregistration Under Section 8(f) of the Investment Company Act of 1940

January 31, 2014.

The following is a notice of applications for deregistration under section 8(f) of the Investment Company Act of 1940 for the month of January 2014. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on February 25, 2014, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street NE., Washington, DC 20549-1090.

FOR FURTHER INFORMATION CONTACT: Diane L. Titus at (202) 551-6810, SEC, Division of Investment Management, Chief Counsel's Office, 100 F Street NE., Washington, DC 20549-8010.

Brandywine Fund Inc. [File No. 811-4447]

Brandywine Blue Fund Inc. [File No. 811-6221]

Summary: Each applicant seeks an order declaring that it has ceased to be an investment company. Applicants transferred their assets to series of Managers Trust I, and on October 1, 2013, made distributions to their shareholders based on net asset value. Expenses of approximately $790,000 incurred in connection with each reorganization were paid by Friess Associates, LLC, applicants' investment adviser, and Managers Investment Group LLC, investment adviser to the surviving fund.

Filing Date: The applications were filed on December 30, 2013.

Applicant's Address: P.O. Box 4166, Greenville, DE 19807.

Oracle Family of Funds [File No. 811-22423]

Summary: Applicant seeks an order declaring that it has ceased to be an investment company. On August 31, 2013, applicant made a liquidating distribution to its shareholders, based on net asset value. Expenses of $7,610 incurred in connection with the liquidation were paid by applicant.

Filing Dates: The application was filed on November 21, 2013, and amended on January 2, 2014.

Applicant's Address: 182 Island Blvd. FL, Fox Island, WA 98333.

HighMark Funds [File No. 811-5059]

Summary: Applicant seeks an order declaring that it has ceased to be an investment company. Applicant's series either liquidated or transferred their assets to corresponding series of California Daily Tax Free Income Fund, Inc., Daily Income Fund, and Nationwide Mutual Funds, and on September 16, 2013, made a final distribution to shareholders based on net asset value. Expenses of $2,724,000 incurred in connection with the reorganization were paid by HighMark Capital Management, Inc., applicant's investment adviser, Reich & Tang Asset Management, LLC, investment adviser to certain acquiring funds, and Nationwide Fund Advisors, investment adviser to certain other acquiring funds.

Filing Dates: The application was filed on November 8, 2013, and amended on December 20, 2013.

Applicant's Address: 350 California St., Suite 1600, San Francisco, CA 94104.

Dreyfus BASIC U.S. Mortgage Securities Fund [File No. 811-5074]

Summary: Applicant seeks an order declaring that it has ceased to be an investment company. On March 5, 2013, applicant made a final liquidating distribution to its shareholders based on net asset value. Expenses of $1,897 incurred in connection with the reorganization were paid by The Dreyfus Corporation, applicant's investment adviser.

Filing Date: The application was filed on January 15, 2014.

Applicant's Address: c/o The Dreyfus Corporation, 200 Park Ave., New York, NY 10166.

BlackRock Senior High Income Fund, Inc. [File No. 811-7456]

BlackRock Strategic Bond Trust [File No. 811-10635]

Summary: Each applicant, a closed-end investment company, seeks an order declaring that it has ceased to be an investment company. Applicants transferred their assets to BlackRock Debt Strategies Fund, Inc., and on December 9, 2013, made final distributions to their shareholders based on net asset value. Expenses of $414,580 incurred in connection with BlackRock Senior High Income Fund, Inc.'s reorganization were paid by BlackRock Advisors, LLC, applicant's investment adviser. Expenses of $332,180 incurred in connection with BlackRock Strategic Bond Trust's reorganization were paid by applicant.

Filing Date: The applications were filed on December 17, 2013.

Applicant's Address: 100 Bellevue Pkwy., Wilmington, DE 19809.

BlackRock Alternatives Allocation Master Portfolio LLC [File No. 811-22672]

Summary: Applicant, a closed-end investment company, seeks an order declaring that it has ceased to be an investment company. Applicant is not presently making an offering of its securities and does not propose to make any offering of its securities. The fund only has five beneficial owners and will continue to operate as a private investment fund in reliance on section 3(c)(1) of the Act until its remaining assets are liquidated.

Filing Date: The application was filed on December 12, 2013.

Applicant's Address: 100 Bellevue Pkwy., Wilmington, DE 19809.

Nuveen Tax-Advantaged Floating Rate Fund [File No. 811-21705]

Summary: Applicant, a closed-end investment company, seeks an order declaring that it has ceased to be an investment company. On June 27, 2012, applicant made a liquidating distribution to its shareholders, based on net asset value. Applicant incurred no expenses in connection with the liquidation.

Filing Date: The application was filed on December 20, 2013.

Applicant's Address: 333 West Wacker Dr., Chicago, IL 60606.

Global Income & Currency Fund Inc. [File No. 811-21791]

Summary: Applicant, a closed-end investment company, seeks an order declaring that it has ceased to be an investment company. Applicant transferred its assets to Nuveen Diversified Currency Opportunities Fund, and on December 10, 2012, made a distribution to its shareholders based on net asset value. Expenses of $332,009 incurred in connection with the reorganization were paid by applicant.

Filing Date: The application was filed on December 20, 2013.

Applicant's Address: 333 West Wacker Dr., Chicago, IL 60606.

MLP & Strategic Equity Fund Inc. [File No. 811-22040]

Summary: Applicant, a closed-end investment company, seeks an order declaring that it has ceased to be an investment company. Applicant transferred its assets to Nuveen Energy MLP Total Return Fund, and on August 27, 2012, made a distribution to its shareholders based on net asset value. Expenses of $542,215 incurred in connection with the reorganization were paid by applicant and the acquiring fund.

Filing Date: The application was filed on December 20, 2013.

Applicant's Address: 333 West Wacker Dr., Chicago, IL 60606.

RiverSource International Managers Series, Inc. [File No. 811-10427]

Summary: Applicant seeks an order declaring that it has ceased to be an investment company. Applicant transferred its assets to series of Columbia Acorn Trust, and on August 9, 2011, made a distribution to shareholders based on net asset value. Expenses of $74,370 incurred in connection with the reorganization were paid by Columbia Management Investment Advisers, LLC, applicant's investment adviser and its affiliates.

Filing Date: The application was filed on December 5, 2013.

Applicant's Address: 901 Marquette Ave. South, Suite 2810, Minneapolis, MN 55402-3268.

Selected Capital Preservation Trust [File No. 811-5240]

Summary: Applicant seeks an order declaring that it has ceased to be an investment company. Applicant transferred its asset to Davis Government Money Market Fund, a series of Davis Series, Inc., and on December 16, 2013, made a distribution to its shareholders based on net asset value. Expenses of approximately $28,432 incurred in connection with the reorganization were paid by applicant and its investment adviser, Davis Selected Advisers, L.P.

Filing Date: The application was filed on December 19, 2013.

Applicant's Address: 2949 East El Vira Rd., Suite 101, Tucson, AZ 85756.

RiverSource Investment Series, Inc. [File No. 811-54]

RiverSource Special Tax-Exempt Series Trust [File No. 811-4647]

Summary: Each applicant seeks an order declaring that it has ceased to be an investment company. Applicants transferred their assets to series of Columbia Funds Series Trust I, and on April 5, 2011, and May 31, 2011, respectively, made distributions to their shareholders based on net asset value. Expenses of $241,116 and approximately $44,944, respectively, incurred in connection with the reorganization were paid by Columbia Management Investment Advisers, LLC, investment adviser to each applicant, and its affiliates.

Filing Date: The applications were filed on December 5, 2013.

Applicant's Address: 901 Marquette Ave. South, Suite 2810, Minneapolis, MN 55402-3268.

RiverSource Income Series, Inc. [File No. 811-499]

RiverSource Global Series, Inc. [File No. 811-5696]

Summary: Each applicant seeks an order declaring that it has ceased to be an investment company. Applicants transferred their assets to series of Columbia Funds Series Trust II, and on April 5, 2011, and May 31, 2011, respectively, made distributions to their shareholders based on net asset value. Expenses of $148,184 and $48,194, respectively, incurred in connection with the reorganizations were paid by applicants and Columbia Management Investment Advisers, LLC, investment adviser to each applicant.

Filing Date: The applications were filed on December 5, 2013.

Applicant's Address: 901 Marquette Ave. South, Suite 2810, Minneapolis, MN 55402-3268.

RiverSource Tax-Exempt Income Series, Inc. [File No. 811-2901]

RiverSource Strategic Allocation Series, Inc. [File No. 811-4133]

RiverSource Managers Series, Inc. [File No. 811-10321]

Summary: Each applicant seeks an order declaring that it has ceased to be an investment company. Applicants transferred their assets to series of Columbia Funds Series Trust I, and on May 31, 2011, May 31, 2011, and April 5, 2011, respectively, made final distributions to their shareholders based on net asset value. Expenses of $274,452, $101,298 and $216,962, respectively, incurred in connection with the reorganizations were paid by applicants and Columbia Management Investment Advisers, LLC, investment adviser to each applicant.

Filing Date: The applications were filed on December 5, 2013.

Applicant's Address: 901 Marquette Ave. South, Suite 2810, Minneapolis, MN 55402-3268.

Nuveen Georgia Premium Income Municipal Fund [File No. 811-7614]

Nuveen Georgia Dividend Advantage Municipal Fund [File No. 811-10351]

Summary: Each applicant, a closed-end investment company, seeks an order declaring that it has ceased to be an investment company. Each applicant transferred its assets to Nuveen Georgia Dividend Advantage Municipal Fund 2, and on July 9, 2012, made distributions to its shareholders based on net asset value. Aggregate expenses of $461,941 incurred in connection with the reorganizations were allocated among applicants and the acquiring fund.

Filing Date: The applications were filed on December 20, 2013.

Applicant's Address: 333 West Wacker Dr., Chicago, IL 60606.

Nuveen Virginia Dividend Advantage Municipal Fund [File No. 811-9469]

Nuveen Virginia Dividend Advantage Municipal Fund 2 [File No. 811-10523]

Summary: Each applicant, a closed-end investment company, seeks an order declaring that it has ceased to be an investment company. Each applicant transferred its assets to Nuveen Virginia Premium Income Municipal Fund, and on August 6, 2012, made distributions to its shareholders based on net asset value. Aggregate expenses of $385,970 incurred in connection with the reorganizations were allocated among applicants and the acquiring fund.

Filing Date: The applications were filed on December 20, 2013.

Applicant's Address: 333 West Wacker Dr., Chicago, IL 60606.

Nuveen Insured California Premium Income Municipal Fund Inc. [File No. 811-6620]

Nuveen Insured California Premium Income Municipal Fund 2 Inc. [File No. 811-7492

Nuveen Insured California Dividend Advantage Municipal Fund [File No. 811-9449]

Summary: Each applicant, a closed-end investment company, seeks an order declaring that it has ceased to be an investment company. Each applicant transferred its assets to Nuveen California AMT-Free Municipal Income Fund, and on May 4, 2012, applicants made distributions to their shareholders based on net asset value. Aggregate expenses of $1,076,339 incurred in connection with the reorganizations were allocated among applicants and the acquiring fund.

Filing Date: The applications were filed on December 20, 2013.

Applicant's Address: 333 West Wacker Dr., Chicago, IL 60606.

Nuveen Connecticut Dividend Advantage Municipal Fund [File No. 811-9465]

Nuveen Connecticut Dividend Advantage Municipal Fund 2 [File No. 811-21033]

Nuveen Connecticut Dividend Advantage Municipal Fund 3 [File No. 811-21154]

Summary: Each applicant, a closed-end investment company, seeks an order declaring that it has ceased to be an investment company. Applicants transferred their assets to Nuveen Connecticut Premium Income Municipal Fund, and on July 9, 2012, made distributions to their shareholders based on net asset value. Aggregate expenses of $520,574 incurred in connection with the reorganizations were allocated among applicants and the acquiring fund.

Filing Date: The applications were filed on December 20, 2013.

Applicant's Address: 333 West Wacker Dr., Chicago, IL 60606.

Nuveen Maryland Dividend Advantage Municipal Fund [File No. 811-9471]

Nuveen Maryland Dividend Advantage Municipal Fund 2 [File No. 811-10349]

Nuveen Maryland Dividend Advantage Municipal Fund 3 [File No. 811-21153]

Summary: Each applicant, a closed-end investment company, seeks an order declaring that it has ceased to be an investment company. Applicants transferred their assets to Nuveen Maryland Premium Income Municipal Fund, and on August 6, 2012, made distributions to their shareholders based on net asset value. Aggregate expenses of $455,433 incurred in connection with the reorganizations were allocated among applicants and the acquiring fund.

Filing Date: The applications were filed on December 20, 2013.

Applicant's Address: 333 West Wacker Dr., Chicago, IL 60606.

Nuveen North Carolina Dividend Advantage Municipal Fund [File No. 811-9461]

Nuveen North Carolina Dividend Advantage Municipal Fund 2 [File No. 811-10525]

Nuveen North Carolina Dividend Advantage Municipal Fund 3 [File No. 811-21158]

Summary: Each applicant, a closed-end investment company, seeks an order declaring that it has ceased to be an investment company. Applicants transferred their assets to Nuveen North Carolina Premium Income Municipal Fund, and on July 9, 2012, applicants made distributions to their shareholders based on net asset value. Aggregate expenses of $559,890 incurred in connection with the reorganizations were allocated among applicants and the acquiring fund.

Filing Date: The applications were filed on December 20, 2013.

Applicant's Address: 333 West Wacker Dr., Chicago, IL 60606.

Nuveen New York Dividend Advantage Municipal Fund 3 [File No. 811-10447]

Summary: Applicant, a closed-end investment company, seeks an order declaring that it has ceased to be an investment company. Applicant has never had any shareholders and does not propose to engage in business of any kind other than as necessary to wind up its affairs.

Filing Date: The application was filed on December 20, 2013.

Applicant's Address: 333 West Wacker Dr., Chicago, IL 60606.

JPMorgan Value Opportunities Fund Inc. [File No. 811-4321]

Summary: Applicant seeks an order declaring that it has ceased to be an investment company. Applicant transferred its assets to JPMorgan Large Cap Value Fund, a series of JP Morgan Trust II, and on October 18, 2013, made a distribution to its shareholders based on net asset value. Expenses of approximately $288,593 incurred in connection with the reorganization were reimbursed by JP Morgan Investment Management, Inc., investment adviser to applicant.

Filing Date: The application was filed on January 15, 2014.

Applicant's Address: 270 Park Ave., New York, NY 10017.

RiverSource Sector Series, Inc. [File No. 811-5522]

Summary: Applicant seeks an order declaring that it has ceased to be an investment company. Applicant transferred its assets to Columbia Real Estate Equity Fund, a series of Columbia Funds Series Trust I, and on March 24, 2011, made a distribution to its shareholders based on net asset value. Expenses of $77,516 incurred in connection with the reorganization were paid by applicant and Columbia Investment Advisers, LLC, applicant's investment adviser.

Filing Dates: The application was filed on December 5, 2013.

Applicant's Address: 901 Marquette Ave. South, Suite 2810, Minneapolis, MN 55402-3268.

For the Commission, by the Division of Investment Management, pursuant to delegated authority.
Kevin M. O'Neill,
Deputy Secretary.

[FR Doc. 2014-02572 Filed 2-5-14; 8:45 am]

BILLING CODE 8011-01-P